DEPARTMENT OF THE INTERIOR

Fish and Wildlife Service

[FWS-R8-ES-2023-0156; FXES11140800000-190-FF08EVEN00]

Draft Categorical Exclusion and Draft General Conservation Plan for Amphibians in Southern Santa Cruz County, California

AGENCY: Fish and Wildlife Service, Interior.

ACTION: Notice of availability; request for comments.

SUMMARY: We, the U.S. Fish and Wildlife Service (Service), announce the availability of a draft general conservation plan (GCP), as well as an associated draft categorical exclusion (CatEx), for development activities in Santa Cruz County, California. The Service developed the GCP in accordance with the Endangered Species Act to provide a streamlined mechanism for proponents engaged in activities associated with residential development and associated infrastructure, construction and maintenance on public lands, and habitat restoration, to meet statutory and regulatory requirements while promoting conservation of the California red-legged frog, California tiger salamander, and Santa Cruz long-toed salamander. The Service also prepared the draft CatEx in accordance with the National Environmental Policy Act to evaluate the potential effects to the natural and human environment resulting from issuing permits under the GCP. We invite comment on these documents from agencies, Tribes, and the public.

DATES: Written comments should be received on or before November 16, 2023.

ADDRESSES:

Obtaining Documents: The documents this notice announces, as well as any comments and other materials that we receive, will be available for public inspection online in Docket No. FWS-R8-ES-2023-0156 at https://www.regulations.gov.

Submitting Comments: If you wish to submit comments on any of the documents, you may do so in writing by any of the following methods:

• Online: https://www.regulations.gov. Follow the instructions for submitting comments on Docket No. FWS-R8-ES-2023-0156.

• U.S. mail: Public Comments Processing; Attn: Docket No. FWS-R8-ES-2023-0156; U.S. Fish and Wildlife Service; MS: PRB/3W; 5275 Leesburg Pike; Falls Church, VA 22041-3803.

FOR FURTHER INFORMATION CONTACT: Chad Mitcham, Fish and Wildlife Biologist, by email at chad_mitcham@fws.gov, or by telephone at 805-644-1766. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce the availability of a draft general conservation plan (GCP) and the associated draft categorical exclusion (CatEx), for development activities in Santa Cruz County. The draft GCP was developed by the Service in accordance with section 10(a)(2)(A) of the Endangered Species Act of 1973, as amended (Act; 16 U.S.C. 1531 et seq.). The GCP meets the issuance criteria as required by section 10(a)(2)(B) of the Act for issuance of a section 10(a)(1)(B) incidental take permit (ITP). The Service developed the GCP to provide a streamlined mechanism for proponents engaged in activities associated with the construction and maintenance of residential dwellings and associated infrastructure, construction, and maintenance on public lands, such as roads, drainages, and parks, and habitat restoration, to meet statutory and regulatory requirements while promoting conservation of the California red-legged frog (Rana draytonii), California tiger salamander (Ambystoma californiense), and Santa Cruz long-toed salamander (Ambystoma macrodactylum croceum). Permits issued under the GCP would authorize incidental take of the covered species for up to 5 years after each respective permit is issued. The GCP would authorize incidental take of the covered species, via permanent habitat loss, within 90 acres (ac) of the approximate 14,314-ac plan area in southern Santa Cruz County. The Service prepared the draft CatEx in accordance with the National Environmental Policy Act of 1969 (NEPA; 42 U.S.C. 4321 et seq.) to evaluate the potential effects to the natural and human environment resulting from issuing permits under the GCP. We invite comment on the GCP and associated documents from agencies, Tribes, and the public.

Background

The Service listed the California red-legged frog as threatened on May 23, 1996 (61 FR 25813), the California tiger salamander as threatened on August 4, 2004 (69 FR 47212), and the Santa Cruz long-toed salamander as endangered on March 11, 1967 (32 FR 4001). Section 9 of the Act and its implementing regulations prohibit the take of fish or wildlife species listed as endangered or threatened. “Take” is defined under the Act to include the following activities: “[T]o harass, harm, pursue, hunt, shoot, wound, kill, trap, capture, or collect, or to attempt to engage in any such conduct” (16 U.S.C. 1532); however, under section 10(a)(1)(B) of the Act, we may issue permits to authorize incidental take of listed species. “Incidental take” is defined by the Act as take that is incidental to, and not the purpose of, carrying out of an otherwise lawful activity. Regulations governing incidental take permits for threatened and endangered species are, respectively, in the Code of Federal Regulations (CFR) at 50 CFR 17.32 and 17.22. Issuance of an incidental take permit also must not jeopardize the existence of federally listed fish, wildlife, or plant species. All species included in an incidental take permit would receive assurances under our “No Surprises” regulations (50 CFR 17.22(b)(5) and 17.32(b)(5)).

The proposed action is approval of the GCP and subsequent issuance of incidental take permits. The Service prepared the GCP to provide a more efficient and standardized mechanism for proponents engaged in activities associated with the construction and maintenance of residential dwellings and associated infrastructure, construction and maintenance on public lands such as roads, drainages, and parks, and habitat restoration on non-Federal lands. The GCP meets permit issuance criteria as required by section 10(a)(2)(B) of the Act and enables implementation of a programmatic permitting and conservation process to address a suite of proposed activities over a defined planning area. The proposed GCP would allow private individuals, local and State agencies, and other non-Federal entities to meet the statutory and regulatory requirements of the Act by applying for permits and complying with the requirements of the GCP, including all applicable avoidance, minimization, and mitigation actions.

Our Preliminary Determination Under the National Environmental Policy Act

The Service has made a preliminary determination that GCP issuance and the subsequent issuance of permits under the GCP is neither a major Federal action that will significantly affect the quality of the human environment within the meaning of section 102(2)(C) of the National Environmental Policy Act (NEPA), nor will it individually or cumulatively have more than a negligible effect on the species covered in the GCP. Therefore, the Service anticipates GCP issuance qualifies for a categorical exclusion pursuant to the Council on Environmental Quality's National Environmental Policy Act (NEPA) regulations (40 CFR 1501.4), the Department of the Interior's (DOI) NEPA regulations (43 CFR 46), and the DOI's Departmental Manual (516 DM 8.5(C)(2)).

Public Comments

If you wish to comment on the GCP and associated documents, you may submit comments by any one of the methods in ADDRESSES.

Public Availability of Comments

Before including your address, phone number, email address, or other personal identifying information in your comment, you should be aware that your entire comment, including your personal identifying information, may be made publicly available at any time. While you can ask us in your comment to withhold your personal identifying information from public view, we cannot guarantee that we will be able to do so.

Authority

The Service provides this notice under section 10(c) of the Endangered Species Act (16 U.S.C. 1531 et seq.) and its implementing regulations (50 CFR 17.32) and the National Environmental Policy Act (42 U.S.C. 4321 et seq.) and its implementing regulations (40 CFR 1500-1508 and 43 CFR 46).

Stephen P. Henry,
Field Supervisor, Ventura Fish and Wildlife Office, Ventura, California.

[FR Doc. 2023-22808 Filed 10-16-23; 8:45 am]

BILLING CODE 4333-15-P